DEPARTMENT OF TRANSPORTATION

Federal Aviation Administration

[Docket No. FAA-2020-0300]

Agency Information Collection Activities: Requests for Comments; Clearance of a Renewed Approval of Information Collection: General Operating and Flight Rules—FAR 91

AGENCY: Federal Aviation Administration (FAA), DOT.

ACTION: Notice and request for comments.

SUMMARY: In accordance with the Paperwork Reduction Act of 1995, FAA invites public comments about our intention to request Office of Management and Budget (OMB) approval to renew an information collection. The Federal Register Notice with a 60-day comment period soliciting comments on the following collection of information was published on March 31, 2020. The reporting and recordkeeping requirements of this collection are related to FAA rules governing the operation of aircraft (other than moored balloons, kites, rockets, unmanned free balloons, and small unmanned aircraft) within the United States. These reporting and recordkeeping requirements are necessary for the FAA to assure compliance with these provisions.

DATES: Written comments should be submitted by July 6, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: John L. Drago by email at: john.l.drago@faa.gov; phone: (330) 648-3887.

SUPPLEMENTARY INFORMATION:

Public Comments Invited: You are asked to comment on any aspect of this information collection, including (a) Whether the proposed collection of information is necessary for FAA's performance; (b) the accuracy of the estimated burden; (c) ways for FAA to enhance the quality, utility and clarity of the information collection; and (d) ways that the burden could be minimized without reducing the quality of the collected information.

OMB Control Number: 2120-0005.

Title: General Operating and Flight Rules—FAR 91.

Form Numbers: None.

Type of Review: Renewal.

Background: The Federal Register Notice with a 60-day comment period soliciting comments on the following collection of information was published on March 31, 2020 (85 FR 17941). The reporting and recordkeeping requirements of Federal Aviation Regulation (FAR) part 91, General Operating and Flight Rules, are authorized by part A of subtitle VII of the revised title 49 of the United States Code.

FAR part 91 prescribes rules governing the operation of aircraft (other than moored balloons, kites, rockets, unmanned free balloons and small unmanned aircraft) within the United States. The reporting and recordkeeping requirements prescribed by various sections of FAR part 91 are necessary for FAA to assure compliance with these provisions. The information collected becomes a part of FAA's official records and is used only by the FAA for certification, compliance and enforcement, and when accidents, incidents, reports of noncompliance, safety programs, or other circumstances require reference to records. Without this information, the FAA would be unable to control and maintain the consistently high level of civil aviation safety we enjoy.

Respondents: Approximately 21,200 airmen, state or local governments, and businesses.

Frequency: On occasion.

Estimated Average Burden per Response: 30 minutes per response.

Estimated Total Annual Burden: 17,492 reporting hours; 212,074 recordkeeping hours; 229,566 total hours.

Issued in Washington, DC, on June 1, 2020.
Dwayne C. Morris,
Project Manager, Flight Standards Service, General Aviation and Commercial Division.

[FR Doc. 2020-12094 Filed 6-3-20; 8:45 am]

BILLING CODE 4910-13-P